DEPARTMENT OF HOUSING AND URBAN DEVELOPMENT

[Docket No. FR-5480-N-121]

Notice of Submission of Proposed Information Collection to OMB; Emergency Comment Request Technical Assistance and Capacity Building Under the Transformation Initiative (OneCPD and Core Curricula)

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

DATES: Comments Due Date: January 3, 2012.

ADDRESSES: Interested persons are invited to submit comments regarding this proposal. Comments must be received within fourteen (10) days from the date of this Notice. Comments should refer to the proposal by name/or OMB approval number (2506-Pending) and should be sent to: HUD Desk Officer, Office of Management and Budget, New Executive Office Building, Washington, DC 20503; email: OIRA-Submission@omb.eop.gov; fax: (202) 395-3086.

FOR FURTHER INFORMATION CONTACT: Colette Pollard, Departmental Reports Management Officer, QDAM, Department of Housing and Urban Development, 451 7th Street SW., Washington, DC 20410; email Colette.Pollard@HUD.gov; telephone (202) 402-3400. This is not a toll-free number. Copies of available documents submitted to OMB may be obtained from Ms. Pollard.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology (e.g., permitting electronic submission of responses).

This Notice Also Lists the Following Information

Title of Proposal: Technical Assistance and Capacity Building under the Transformation Initiative (OneCPD and Core Curricula).

Description of Information Collection:

The Narratives, Matrices and Reporting Requirements associated with the One CPD Technical Assistance (NSPTA) Program will allow CPD to accurately assess the experience, expertise, and overall capacity of applicants for technical assistance under the NSPTA FY 2011 Program NOFA. They will also allow CPD to monitor and evaluate TA progress over the course of each grant and make necessary interventions. The new format for this type of collection also makes it easier for applicants to apply and report by reducing the time required for filling out an application and reporting forms, while retaining the utility of the previous collection methods.

OMB Control Number: 2506-Pending.

Agency Form Numbers: HUD-40040; HUD-40044.

Members of Affected Public: Eligible applicants (states, units of local government, public housing authorities, non-profit organizations, for-profit entities, and consortia).

Estimation of the total numbers of hours needed to prepare the information collection including number of responses, frequency of responses, and hours of responses: For OneCPD TA, total burden for applicants is estimated at 50 applicants × 60 hours. For awardees, the additional burden is estimated at 15 grant recipients × 33 hours for post-award and reporting requirements.

Status of the proposed information collection: New Collection.

Authority: The Paperwork Reduction Act of 1995, 44 U.S.C. Chapter 35, as amended.

Dated: December 16, 2011.
Colette Pollard,
Departmental Reports Management Officer, Officer of the Chief Information Officer.

[FR Doc. 2011-32734 Filed 12-21-11; 8:45 am]

BILLING CODE 4210-67-P